DEPARTMENT OF TRANSPORTATION

Federal Aviation Administration

Commercial Space Transportation Advisory Committee: Notice of Public Meeting

AGENCY: Federal Aviation Administration, Department of Transportation.

ACTION: Notice of Public Meeting.

SUMMARY: This notice announces a meeting of the Commercial Space Transportation Advisory Committee for June 22, 2020.

DATES: The June 22, 2020 meeting will be held from 8:45 a.m. to 12:00 p.m. Eastern Time. Requests for accommodations to a disability must be received by June 15, 2020.

Requests to speak during the meeting must be submitted by June 15, 2020, to DOT and include a written copy of their remarks. Requests to submit written materials to be reviewed during the meeting must be received by DOT no later than June 15, 2020.

Notices for the September 2020 and March 2021 meetings will be published in the Federal Register at least 15 calendar days before the day of the meeting.

ADDRESSES: The June 15, 2020 meeting will be an internet-only meeting. No physical meeting is planned. Instructions on how to attend the meeting, copies of meeting minutes, and a detailed agenda will be posted on the COMSTAC internet website at: https://www.faa.gov/space/additional_information/comstac/.

FOR FURTHER INFORMATION CONTACT: James Hatt, Designated Federal Officer, U.S. Department of Transportation, at james.a.hatt@faa.gov. Any committee related request should be sent to the person listed in this section.

SUPPLEMENTAL INFORMATION:

I. Background

The Commercial Space Transportation Advisory Committee was created under the Federal Advisory Committee Act (FACA), in accordance with Public Law 92-463. Since its inception, COMSTAC has provided information, advice, and recommendations to the U.S. Department of Transportation through FAA regarding technology, business, and policy issues relevant to oversight of the U.S. commercial space transportation sector.

II. Agenda

At the June 22, 2020 meeting, the agenda will cover the following topics:

Secretary of Transportation Elaine Chao Welcome Remarks

FAA Administrator Steve Dickson Welcome Remarks

FAA Associate Administrator for Commercial Space Transportation, Gen. Wayne Monteith Welcome Remarks

Committee Member Introductions

FAA/AST Updates

AST's Priorities for 2020-2021

Public Comments/Other Business

III. Public Participation

The June 22, 2020 meeting is open to the public. The meeting can be viewed by the public using the internet website link posted above. The U.S. Department of Transportation is committed to providing equal access to this meeting for all participants. If you need alternative formats or services because of a disability, such as sign language, interpretation, or other ancillary aids, please contact the person listed in the FOR FURTHER INFORMATION CONTACT section by June 15, 2020.

There will be approximately thirty minutes allotted for oral comments from members of the public joining a COMSTAC meeting. To accommodate as many speakers as possible, the time for each commenter may be limited. Individuals wishing to reserve speaking time during the meeting must submit a request at the time of registration, as well as the name, address, and organizational affiliation of the proposed speaker. If the number of registrants requesting to make statements is greater than can be reasonably accommodated during the meeting, the FAA Office of Commercial Space Transportation may conduct a lottery to determine the speakers. Speakers are requested to submit a written copy of their prepared remarks for inclusion in the meeting records and for circulation to COMSTAC members. All prepared remarks submitted on time will be accepted and considered as part of the record. Any member of the public may present a written statement to the committee at any time.

Issued in Washington, DC, this 21 day of May 2020.
James A. Hatt,
Designated Federal Officer, Commercial Space Transportation Advisory Committee, Federal Aviation Administration, Department of Transportation.

[FR Doc. 2020-11323 Filed 5-26-20; 8:45 am]

BILLING CODE 4910-13-P